Title 3—

The President

Proclamation 10108 of October 30, 2020

Critical Infrastructure Security and Resilience Month, 2020

By the President of the United States of America

A Proclamation

Critical infrastructure provides the foundation for our national security and prosperity. During Critical Infrastructure Security and Resilience Month, we renew our commitment to protecting and securing our Nation's essential systems for food and water, healthcare and public health, electric power supplies, emergency services, telecommunications, transportation, government and banking services, the administration of elections, and beyond. These vital functions and services are powered by a broad ecosystem of critical infrastructure assets, systems, networks, and workers, and underpin our American way of life.

While advances in technology have enhanced the safety, security, and comprehensive integration of our Nation's critical infrastructure, vulnerabilities still exist, particularly those that can be exploited by cyber adversaries. Manipulation of our data networks can interfere with healthcare, financial, and government services. Interruption of the electric power grid can disrupt water and food supplies, telecommunications, manufacturing, and transportation. Our Nation relies on these complex and interdependent networks to sustain our economic growth and ensure public health and security.

To coordinate our security and resilience efforts and protect our critical infrastructure now and in the future, I signed into law the Cybersecurity and Infrastructure Security Agency (CISA) Act of 2018. CISA works with businesses, communities, and government to help make the Nation's critical infrastructure more resilient to cyber and physical threats. From the onset of the coronavirus pandemic, CISA has released guidance to promote the health and safety of our Nation's essential workforce and provided critical information to assist owners and operators in categorizing risk, identifying opportunities for remote work, determining the criticality of specific roles, and deciding the allocation of resources, such as personal protective equipment and medical testing.

Additionally, my Administration has further advanced and strengthened the security and resilience of our critical infrastructure throughout the pandemic. In February, I signed an Executive Order on Strengthening National Resilience through Responsible Use of Positioning, Navigation, and Timing (PNT) Services to prevent any efforts to disrupt or manipulate PNT services, such as the Global Positioning System, from being undermined. In March, I signed the Secure and Trusted Communications Networks Act of 2019 and issued the National Strategy to Secure 5G to ensure the security, reliability, and trustworthiness of America's communications networks. In May, I signed an Executive Order on Securing the United States Bulk-Power System to prevent foreign actors from creating and exploiting vulnerabilities in bulk-power system electric equipment. In August, I signed an Executive Order on Ensuring Essential Medicines, Medical Countermeasures, and Critical Inputs Are Made in the United States to reduce our dependence on foreign chemical and medical supply chains and promote American-made production of essential medicines. And in September and October, my Administration completed implementation of a Presidential Memorandum on Promoting the Reliable Supply and Delivery of Water in the West, and I signed an Executive Order on Modernizing America's Water Resource Management and Water Infrastructure. Both of these actions ensure that Americans have abundant, safe, and reliable supplies of water and world-class water infrastructure to support our economy. These actions and many more, like restocking personal protective equipment in the Strategic National Stockpile, will ensure our national self-sufficiency and security for our children, grandchildren, and generations to come.

During Critical Infrastructure Security and Resilience Month, we recommit to staying alert and continuously adapting to evolving threats and hazards, promoting the security of all critical infrastructure systems, and boosting resilience to potential disruptions, in partnership with State, local, Tribal, and private organizations. We thank the incredible workers who are on the frontlines night and day to sustain our vital systems, functions, and services, and we recognize that each and every American can help protect and strengthen our country's critical infrastructure.

NOW, THEREFORE, I, DONALD J. TRUMP, President of the United States of America, by virtue of the authority vested in me by the Constitution and the laws of the United States, do hereby proclaim November 2020 as Critical Infrastructure Security and Resilience Month. I call on the people of the United States to recognize the importance of protecting our Nation's infrastructure and to observe this month with appropriate measures to enhance our national security and resilience.

IN WITNESS WHEREOF, I have hereunto set my hand this thirtieth day of October, in the year of our Lord two thousand twenty, and of the Independence of the United States of America the two hundred and forty-fifth.

[FR Doc. 2020-24737

Filed 11-4-20; 8:45 am]

Billing code 3295-F1-P